DEPARTMENT OF HOUSING AND URBAN DEVELOPMENT

[Docket No. FR-5687-N-15]

Notice of Proposed Information Collection: Comment Request; Comprehensive Needs Assessment (CNA)

AGENCY: Office of the Assistant Secretary for Housing, HUD.

ACTION: Notice.

SUMMARY: The proposed information collection requirement described below will be submitted to the Office of Management and Budget (OMB) for review, as required by the Paperwork Reduction Act. HUD is soliciting public comments on the subject proposal.

DATES: Comments Due Date: May 31, 2013.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Relay Service (1-800-877-8339).

FOR FURTHER INFORMATION CONTACT: Harry Messner, Project Manager, Department of Housing and Urban Development, 451 7th Street SW., Washington, DC 20410, telephone (202) 708-2121 (this is not a toll free number) for copies of the proposed forms and other available information.

SUPPLEMENTARY INFORMATION: HUD is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Capital Needs Assessment (CNA).

OMB Control Number, if applicable: 2502-0505.

Description of the need for the information and proposed use: Collecting this information is required for compliance with the statute. In addition, this information allows the project owner and HUD to assess current project resources and determine future financial resources required to meet the needs of the project.

Agency form numbers, if applicable: None: CNAs are required to be prepared by qualified third party entities and provided to the loan originator or servicer for review. The originator or servicer then provides the completed document to the owner, who must provide a copy to HUD.

Estimation of the total numbers of hours needed to prepare the information collection including number of respondents, frequency of response, and hours of response: The number of burden hours is 72,720. The number of respondents is 1,818, the number of responses is 1,818, the frequency of response is on occasion, and the burden hour per response is 40.

Status of the proposed information collection: This is an extension of a currently approved collection.

Authority: The Paperwork Reduction Act of 1995, 44 U.S.C., Chapter 35, as amended.

Dated: March 26, 2013.
Laura M. Marin,
Acting General Assistant Secretary for Housing—Acting General Deputy Federal Housing Commissioner.

[FR Doc. 2013-07513 Filed 3-29-13; 8:45 am]

BILLING CODE 4210-67-P